OFFICE OF SCIENCE AND TECHNOLOGY POLICY

Spectrum Policy

ACTION: Notice of Request for Information.

SUMMARY: On June 14, 2013, the President issued a Memorandum to the heads of executive departments and agencies on the subject of spectrum policy (http://www.whitehouse.gov/the-press-office/2013/06/14/presidential-memorandum-expanding-americas-leadership-wireless-innovatio). The Memorandum directs the White House Spectrum Policy Team to make recommendations regarding market-based or other approaches that could give departments and agencies greater incentive to share or relinquish spectrum, while protecting the mission capabilities of existing and future systems that rely on spectrum use. This notice solicits public input to inform the development of those recommendations.

DATES: Responses must be received by March 20, 2014 to be considered.

ADDRESSES: You may submit comments by any of the following methods:

• Email: publicaccess@ostp.gov, include [Agency Incentives—Spectrum] in the subject line of the message.

• Fax: (202) 456-6040, Attn: Tom Power.

• Mail: Attn: Tom Power, Office of Science and Technology Policy, Eisenhower Executive Office Building, 1650 Pennsylvania Ave. NW., Washington, DC 20504.

Instructions: Response to this RFI is voluntary. Respondents need not reply to all questions listed; however, they should clearly indicate the question(s) to which they are responding. Responses to this RFI, including the names of the authors and their institutional affiliations, if provided, may be posted online. OSTP therefore requests that no business proprietary information, copyrighted information, or personally identifiable information be submitted in response to this RFI. Please note that the U.S. Government will not pay for response preparation, or for the use of any information contained in the response.

FOR FURTHER INFORMATION CONTACT: Tom Power, (202) 456-4444, Thomas_C_Power@ostp.eop.gov, OSTP.

SUPPLEMENTARY INFORMATION: In his June 14, 2013, Memorandum on spectrum policy, “Expanding America's Leadership in Wireless Innovation,” the President stated that in order to continue the cycle of wireless innovation, productivity, and job creation, “[w]e must continue to make additional spectrum available as promptly as possible for the benefit of consumers and businesses.” The President also said that, ”[a]t the same time, we must ensure that Federal, State, local, tribal, and territorial governments are able to maintain mission critical capabilities that depend on spectrum today, as well as effectively and efficiently meet future requirements.”

To help implement these goals, the Memorandum established a Spectrum Policy Team. Among its responsibilities, the Spectrum Policy Team shall make recommendations to the President “regarding market-based or other approaches that could give agencies greater incentive to share or relinquish spectrum, while protecting the mission capabilities of existing and future systems that rely on spectrum use.” The Memorandum directed the Spectrum Policy Team to consider certain proposals made by the President's Council of Advisors on Science and Technology in its July 2012 report, “Realizing the Full Potential of Government-Held Spectrum to Spur Economic Growth” (http://www.whitehouse.gov/sites/default/files/microsites/ostp/pcast_spectrum_report_final_july_20_2012.pdf). The Memorandum further directed the Spectrum Policy Team to analyze the impact of the Commercial Spectrum Enhancement Act of 2004 (Title II of Pub. L. 108-494), as modified by the Middle Class Tax Relief and Job Creation Act of 2012 (Pub. L. 112-96).

The Spectrum Policy Team tasked a federally funded research and development center, the Science and Technology Policy Institute (STPI), to review publicly available analyses and proposals regarding incentives for agencies to share or relinquish spectrum. STPI has prepared a report, available at https://www.ida.org/upload/stpi/pdfs/p5102final.pdf, that identifies and characterizes various approaches to providing incentives to Federal agencies to increase spectrum efficiency through relocation, improved technologies, and spectrum sharing. This notice invites comment on that report and on other approaches to providing agency incentives.

The STPI report identifies nine major approaches to providing incentives to Federal agencies to share or relinquish spectrum, representing a variety of paths to satisfying the increasing demands for spectrum capacity from both government and commercial users. These approaches are grouped into four types of mechanisms that could be considered, separately or in some combination:

(1) Spectrum user fees, payable by agencies based on some valuation of their spectrum assignments.

(2) A spectrum fund that agencies could draw from to plan and execute spectrum relocation and sharing strategies.

(3) Spectrum property rights, where spectrum assignments to agencies could include the authority to further assign or share those rights with wireless carriers and other third parties in return for compensation paid directly to the agency.

(4) Command-and-control, where a central authority such as the National Telecommunications and Information Administration (NTIA) or the Office of Management and Budget (OMB) would be given greater authority over relocation and sharing decisions.

In addition to addressing these mechanisms, commenters are requested to identify other incentive-based measures that could promote spectrum sharing or relinquishment. Commenters should address the merits of each mechanism, including implementation challenges and the relative advantages and disadvantages, assuming any implementation challenges were overcome.

Questions To Inform Development of Spectrum Policy

Without limiting the foregoing, commenters should consider the following:

(A) With respect to spectrum user fees, what are the lessons learned from the United Kingdom's experience as well as any comparable efforts in other countries? To the extent that Federal agencies seek spectrum assignments based on mission-based needs, how would the imposition of user fees affect agency demand for spectrum? How would a system of spectrum user fees operate in the context of the traditional Federal appropriations process?

(B) With respect to a spectrum fund, what are alternative means to fund agency planning, research, and development? If the funding is to come from subsequent auctions of the spectrum band in question, how would agencies assess the potential risk of not being reimbursed for planning costs given that the plans may not be approved or implemented as expected? Likewise, how would such a fund be financially supported and used to promote relinquishment or sharing of bands that could be put to innovative and productive commercial uses without auctioning (e.g. unlicensed uses)? What are ways that a spectrum fund can provide a true incentive to agencies, and not simply reimburse them for costs incurred? Likewise, what is the best way to ensure that disbursements to an agency from a spectrum fund are not simply offset by a corresponding deduction from the agency's budget for the following fiscal year, thus negating the incentive?

(C) With respect to spectrum property rights, how would the introduction of such an approach affect mission capabilities? To the extent that a property right approach provides an incentive to share or relinquish spectrum already acquired, what corresponding conditions, if any, should be imposed on the acquisition of spectrum rights by one or more agencies? What are the practical or legal limitations that would affect the likely benefits of this approach related to spectrum efficiency, operational flexibility, or financial incentives? What are the potential unintended consequences (e.g., hoarding) of granting such rights and how could they be curtailed without impeding an agency's flexibility?

(D) With respect to a command-and-control approach, how would efficiency gains be measured and what additional resources, if any, would be required? What kind of additional authority and resources would NTIA or OMB need to effectively implement this approach?

(E) With respect to any approach, what are the means to ensure effective coordination among agencies, such that their collective efforts are brought to bear most productively, especially in the specific bands valued by the private sector? What approaches are most conducive to or dependent on spectrum sharing? What technological and logistical challenges need to be overcome and how significant are those challenges?

(F) H.R. 3674, legislation currently pending in the House of Representatives (http://beta.congress.gov/bill/113th/house-bill/3674), would expand the allowable usage of auction proceeds shared with agencies who voluntarily relinquish spectrum to include appropriations accounts reduced by sequestration, up to the level of reduction induced by sequestration. OSTP welcomes comments on the approach proposed in this legislation and any modifications that could improve its efficacy.

Ted Wackler,
Deputy Chief of Staff and Assistant Director.

[FR Doc. 2014-03413 Filed 2-14-14; 8:45 am]

BILLING CODE 3270-F4-P